DEPARTMENT OF ENERGY

Federal Energy Regulatory Commission

[Project No. 4117-013]

The Metropolitan District; Notice of Effectiveness of Withdrawal of Application for Surrender of License

On August 26, 2019, as supplemented on October 17, 2019, and December 19, 2019, The Metropolitan District filed an application for surrender of license for the 3-megawatt Colebrook Hydroelectric Project No. 4117, located on the West Branch of the Farmington River in Litchfield County, Connecticut. On July 11, 2024, The Metropolitan District filed a notice of withdrawal of its application.

No motion in opposition to the notice of withdrawal has been filed, and the Commission has taken no action to disallow the withdrawal. Pursuant to Rule 216(b) of the Commission's Rules of Practice and Procedure,¹ the withdrawal of the surrender application became effective on July 26, 2024, and this proceeding is hereby terminated.

¹ 18 CFR 385.216(b) (2024).

Dated: October 4, 2024.
Debbie-Anne A. Reese,
Acting Secretary.

[FR Doc. 2024-23520 Filed 10-10-24; 8:45 am]

BILLING CODE 6717-01-P